DEPARTMENT OF TRANSPORTATION

Federal Aviation Administration

Notice of Intent To Rule on Application To Impose and Use the Revenue From a Passenger Facility Charge (PFC) at Hector International Airport, Fargo, ND

AGENCY: Federal Aviation Administration (FAA), DOT.

ACTION: Notice of intent to rule on application.

SUMMARY: The FAA proposes to rule and invites public comment on the application to impose and use the revenue from a PFC at Hector International under the provisions of the Aviation Safety and Capacity Expansion Act of 1990 (Title IX of the Omnibus Budget Reconciliation Act of 1990) (Public Law 101-508) and Part 158 of the Federal Aviation Regulations (14 CFR Part 158).

DATES: Comments must be received on or before August 1, 2001.

ADDRESSES: Comments on this application may be mailed or delivered in triplicate to the FAA at the following address: Bismarck Airports District Office, 2301 University Drive, Building 23B, Bismarck, North Dakota 58504. In addition, one copy of any comments submitted to the FAA must be mailed or delivered to Shawn A. Dobberstein, Executive Director of Hector International Airport at the following address: P.O. Box 2845, Fargo, North Dakota 58108.

Air carriers and foreign air carriers may submit copies of written comments previously provided to the City of Fargo Municipal Airport Authority under section 158.23 of Part 158.

FOR FURTHER INFORMATION CONTACT: Tom Schauer, Acting Manager, Bismarck Airports District Office, 2301 University Drive, Building 23B, Bismarck, North Dakota 58504 (701-323-7380). The application may be reviewed in person at this same location.

SUPPLEMENTARY INFORMATION: The FAA proposes to rule and invites public comment on the application to impose and use the revenue from a PFC at Hector International Airport under the provisions of the Aviation Safety and Capacity Expansion Act of 1990 (Title IX of the Omnibus Budget Reconciliation Act of 1990) (Public Law 101-508) and part 158 of the Federal Aviation Regulations (14 CFR part 158).

On June 11, 2001 the FAA determined that the application to impose and use the revenue from a PFC submitted by City of Fargo Municipal Airport Authority was substantially complete within the requirements of section 158.25 of Part 158. The FAA will approve or disapprove the application, in whole or in part, no later than September 14, 2001.

The following is a brief overview of the application.

PFC application number: 01-05-C-00-FAR.

Level of the proposed PFC: $4.50.

Proposed charge effective date: September 1, 2002.

Proposed charge expiration date: January 1, 2004.

Total estimated PFC revenue: $1,942,080.00.

Brief description of proposed projects: Emergency electrical generator for the passenger terminal facility, jet bridge conversion equipment, UHF frequency airport radio system, security announcement system, automated passenger boarding bridges, rehabilitate passenger terminal exterior and upgrade heating, ventilating and air conditioner system, emergency generator in snow removal equipment maintenance facility, airport signage, PFC development costs, purchase snow removal equipment, security system modifications, passenger lift and stairs, PFC audit fees and administrative reimbursement for years 1997, 1998 and 1999, flight information and display system, forward looking infrared system for aircraft rescue and fire fighting vehicle, rehabilitate runway 17 threshold lights, purchase runway pavement friction measuring device, terminal apron rehabilitation, taxiway B3 reconstruction, eastside general aviation apron improvements, eastside general aviation storm sewer rehabilitation, eastside commercial apron improvements, year 2000 upgrade of security access control and runway surface sensor systems, rehabilitate runway 13/31, improve drainage along taxiway A, install runway threshold lights on runway 8/26, construct county drain 10, construct perimeter road, prepare plans and specifications for runway 8/26 extension and perimeter road, master plan update.

Class or classes of air carriers which the public agency has requested not be required to collect PFCs: Air taxi/commercial operators filing FAA form 1800-31.

Any person may inspect the application in person at the FAA office listed above under FOR FURTHER INFORMATION CONTACT.

In addition, any person may, upon request, inspect the application, notice and other documents germane to the application in person at Hector International Airport.

Issued in Des Plaines, Illinois on June 21, 2001.
Robert Benko,
Acting Manager, Planning and Programming Branch, Airports Division, Great Lakes Region.

[FR Doc. 01-16609 Filed 6-29-01; 8:45 am]

BILLING CODE 4910-13-M